NATIONAL AERONAUTICS AND SPACE ADMINISTRATION

[Notice: (09-001)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Dr. Walter Kit, National Aeronautics and Space Administration, Washington, DC 20546-0001.

FOR FURTHER INFORMATION CONTACT: Requests for additional information or copies of the information collection instrument(s) and instructions should be directed to Dr. Walter Kit, NASA Clearance Officer, NASA Headquarters, 300 E Street, SW., JE0000, Washington, DC 20546, (202) 358-1350, Walter.Kit-1@nasa.gov.

SUPPLEMENTARY INFORMATION:

I. Abstract

The Federal Automotive Statistical Tool (FAST) Reporting of Government-Owned Contractor-Operated Vehicles is an information collection required by Executive Order 13149, “Greening the Government through Federal Fleet and Transportation Efficiency,” Section 505. This order requires Federal agencies to ensure that all Government-owned contractor-operated vehicles comply with all applicable goals and other requirements of this order and that these goals and requirements are incorporated into each contractor's management contract. This order requires the Department of Energy (DOE) to issue guidance to agencies and to establish the data collection and reporting system for collecting annual agency performance data on meeting the goals of the order and other applicable statutes and policies, as stated in Section 301(b).

In July 2000, the DOE prepared the Guidance Document for Federal agencies, as required by Executive Order 13149. Section 2-3 requires agencies to report using DOE's Federal Automotive Statistical Tool (FAST). FAST is accessed through http://fastweb.inel.gov/.

II. Method of Collection

NASA collects this information electronically through http://fastweb.inel.gov/.

III. Data

Title: Federal Automotive Statistical Tool (FAST) Reporting of Government-Owned Contractor-Operated Vehicles.

OMB Number: 2700-0106.

Type of Review: Extension of a currently approved collection.

Affected Public: Federal Government and Business or other for-profit.

Estimated Number of Respondents: 93.

Estimated Time per Response: 15 min/vehicle.

Estimated Total Annual Burden Hours: 425.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Walter Kit,
NASA Clearance Officer.

[FR Doc. E9-13 Filed 1-6-09; 8:45 am]

BILLING CODE 7510-13-P